NUCLEAR REGULATORY COMMISSION

Advisory Committee on the Medical Uses of Isotopes: Meeting Notice

AGENCY: U.S. Nuclear Regulatory Commission.

ACTION: Notice of meeting.

SUMMARY: The U.S. Nuclear Regulatory Commission will convene a tele-conference meeting of the Advisory Committee on the Medical Uses of Isotopes (ACMUI) on January 18, 2005. The topic of discussion will be “Update to Medical Event Criteria Definition.” During this discussion, an ACMUI subcommittee will forward to the full ACMUI its recommendations regarding revision of the medical event criteria definition in Pt. 35. NRC staff is seeking the ACMUI's recommendations on this issue, as well as any recommendations on communicating associated risks to the public.

DATES: The tele-conference meeting will be held on Tuesday, January 18, 2005, from 1 p.m. to 3 p.m Eastern Standard Time.

Public Participation: Any member of the public who wishes to participate in the tele-conference discussion may contact Angela R. McIntosh using the contact information below.

FOR FURTHER INFORMATION CONTACT: Angela R. McIntosh, telephone (301) 415-5030; e-mail arm@nrc.gov of the Office of Nuclear Material Safety and Safeguards, U.S. Nuclear Regulatory Commission, Washington, DC 20555-0001.

Conduct of the Meeting: Leon S. Malmud, M.D., will chair the meeting. Dr. Malmud will conduct the meeting in a manner that will facilitate the orderly conduct of business. The following procedures apply to public participation in the meeting:

1. Persons who wish to provide a written statement should submit a reproducible copy to Angela McIntosh, U.S. Nuclear Regulatory Commission, Two White Flint North, Mail Stop T8F5, Washington, DC 20555-0001. Hard copy submittals must be postmarked by January 12, 2005, and electronic submittals must be submitted by January 14, 2005. Any submittal must pertain to the topic on the agenda for the meeting.

2. Questions from members of the public will be permitted during the meeting, at the discretion of the Chairman.

3. The transcript and written comments will be available for inspection on NRC's Web site (http://www.nrc.gov) and at the NRC Public Document Room, 11555 Rockville Pike, Rockville, MD 20852-2738, telephone (800) 397-4209, on or about March 18, 2005. Minutes of the meeting will be available on or about February 1, 2005.

This meeting will be held in accordance with the Atomic Energy Act of 1954, as amended (primarily Section 161a); the Federal Advisory Committee Act (5 U.S.C. App); and the Commission's regulations in Title 10, U.S. Code of Federal Regulations, part 7.

Dated: December 16, 2004.
Andrew L. Bates,
Advisory Committee Management Officer.

[FR Doc. 04-27947 Filed 12-21-04; 8:45 am]

BILLING CODE 7590-01-P